DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than April 17, 2000.

ADDRESSES: Submit written comments on any or all of the following proposed activities by mail to either: Mr. Robert Brogan, Office of Safety, Planning and Evaluation Division, RRS-21, Federal Railroad Administration, 1120 Vermont Ave., N.W., Mail Stop 17, Washington, D.C. 20590, or Ms. Dian Deal, Office of Information Technology and Productivity Improvement, RAD-20, Federal Railroad Administration, 1120 Vermont Ave., N.W., Mail Stop 35, Washington, D.C. 20590. Commenters requesting FRA to acknowledge receipt of their respective comments must include a self-addressed stamped postcard stating, “Comments on OMB control number 2130___. Alternatively, comments may be transmitted via facsimile to (202) 493-6265 or (202) 493-6170, or E-mail to Mr. Brogan at robert.brogan@fra.dot.gov, or to Ms. Deal at dian.deal@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., N.W., Mail Stop 17, Washington, D.C. 20590 (telephone: (202) 493-6292) or Dian Deal, Office of Information Technology and Productivity Improvement, RAD-20, Federal Railroad Administration, 1120 Vermont Ave., N.W., Mail Stop 35, Washington, D.C. 20590 (telephone: (202) 493-6133). (These telephone numbers are not toll-free.)

SUPPLEMENTARY INFORMATION: The Paperwork Reduction Act of 1995 (PRA), Public Law No. 104-13, section 2, 109 Stat. 163 (1995) (codified as revised at 44 U.S.C. §§ 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of three currently approved information collection activities that FRA will submit for clearance by OMB as required under the PRA:

Title: Railroad Locomotive Safety Standards and Event Recorders.

OMB Control Number: 2130-0004.

Abstract: Under regulations issued pursuant to Congressional mandate, 49 U.S.C. 20137, trains must be equipped with event recorders. Event recorders are devices that record train speed, hot box detection, throttle position, brake application, brake operations, time and signal conditions, and any other function that FRA considers necessary to monitor the safety of train operations. Event recorders provide FRA with information about how trains are operated, and, if a train is involved in an accident, the devices afford data to FRA and other investigators necessary to determine the probable causes of the accident. Moreover, under 49 CFR Part 229, railroads are required to conduct daily, periodic, annual, and biennial tests of locomotives to measure the level of compliance with Federal regulations. The collection of information requires railroads to prepare written records indicating the repairs needed, the person making the repairs, and the type of repairs made. This information provides a locomotive engineer with information that the locomotive has been inspected and is in proper condition for use in service, and enables FRA to monitor compliance with the regulatory standards. Other information collection requirements in Part 229 are indicated in the chart below.

Form Number(s): FRA F 6180.49A.

Affected Public: Businesses.

Respondent Universe: 685 railroads.

Frequency of Submission: On occasion; annually, biennially, recordkeeping.

Reporting Burden:

CFR section | Respondent universe | Total annual responses | Average time per response | Total annual burden hours | Total annual burden cost
229.95—Movement of noncomplying locomotive | 685 railroads | 21,000 tags | 1 minute | 350 hours | $10,850.
229.17—Accident reports | 685 railroads | 1 report | 15 minutes | .25 hour | $8.
229.21—Daily inspection | 685 railroads | 5,460,000 Inspections | 3 minutes | 273,000 hours | $10,374,000.
229.113—Steam generator warning notice | No Steam Generators are in service today | None | N/A | N/A | N/A.
Locomotive inspection and repair record (Form FRA-F-6180.49A) | 685 Railroads | 21,000 Forms | 2 minutes | 700 hours | $18,200.
229.31—Locomotive noise emission test | 685 railroads | 100 Tests | 15 minutes | 25 hours | $650.
229.23—Periodic inspection | 685 railroads | Included on form FRA-F-6180.49A | Included on form FRA-F-6180.49A | Included on form FRA-F-6180.49A | Included on Form FRA-F-6180.49A.
229.27/229.29—Annual & biennial tests | 685 railroads | Included on form FRA-F-6180.49A | Included on form FRA-F-6180.49A | Included on form FRA-F-6180.49A | Included on form FRA-F-6180.49A
229.31—Main reservoir tests | 685 railroads | 84,000 Tests | 10 hours | 840,000 hours | $21,840,000.
229.33—Out-of-use credit | 685 railroads | 2,400 Out-of-use credits | 2 minutes | 80 hours | $2,080.
Written copy of instructions | 685 railroads | 200 Amendments | 15 minutes | 50 hours | $1,550.
Data verification readout record | 685 railroads | 72,000 Tests/record | 30 minutes | 36,000 hours | $1,116,000.
Written record when event recorder is removed from service | 685 railroads | 6,000 Removals | 1 minute | 100 hours | $3,100.
Record of event record data | 685 railroads | 100 Accidents/data records | 15 minutes | 25 hours | $775.

Total Responses: 5,666,801.

Estimated Total Annual Burden: 1,150,330 hours.

Status: Regular Review.

Title: Railroad Signal System Requirements.

OMB Control Number: 2130-0006.

Abstract: The regulations pertaining to railroad signal systems are contained in 49 CFR Parts 233 (Signal System Reporting Requirements), 235 (Instructions Governing Applications for Approval of a Discontinuance or Material Modification of a Signal System), and 236 (Rules, Standards, and Instructions Governing the Installation, Inspection, Maintenance, and Repair of Systems, Devices, and Appliances). Section 233.5 provides that each railroad must report to FRA within 24 hours after learning of an accident or incident arising from the failure of a signal appliance, device, method, or system to function or indicate as required by part 236 of this title that results in a more favorable aspect than intended or other condition hazardous to the movement of a train. Section 233.7 sets forth the specific requirements for reporting signal failures within 15 days in accordance with the instructions printed on Form FRA F 6180.14. Finally, Section 233.9 sets forth the specific requirements for the “Signal System Five Year Report.” It requires that every five years, each railroad must file a signal systems status report. The report is to be prepared on a form issued by FRA in accordance with the instructions and definitions provided. Title 49, Part 235 of the Code of Federal Regulations, sets forth the specific conditions under which FRA approval of modification or discontinuance of railroad signal systems is required and prescribes the methods available to seek such approval. The application process prescribed under Part 235 provides a vehicle enabling FRA to obtain the necessary information to make logical and informed decisions concerning carrier requests to modify or discontinue signaling systems. Section 235.5 requires railroads to apply for FRA approval to discontinue or materially modify railroad signaling systems. Section 235.7 defines “material modifications” and identifies those changes that do not require agency approval. Section 235.8 provides that any railroad may petition FRA to seek relief from the requirements provided under 49 CFR Part 236. Sections 235.10, 235.12, and 235.13 describe where the petition must be submitted, what information must be included, the organizational format, and the official authorized to sign the application. Section 235.20 sets forth the process for protesting the granting of a carrier application for signal changes or relief from the rules, standards, and instructions. This section provides the information that must be included in the protest, the address for filing the protest, the time limit for filing the protest, and the requirement that a person requesting a public hearing explain the need for such a forum. Section 236.110 requires that the test results of certain signaling apparatus be recorded and specifically identify the tests required under §§ 236.102-109; §§ 236.376 to 236.387; §§ 236.576, 236.577; and §§ 236.586-236.589. Section 236.110 further provides that the test results must be recorded on preprinted or computerized forms provided by the carrier and that the forms show the name of the railroad; place and date of the test conducted; equipment tested; tests results; repairs, replacements, and adjustments made; and the condition of the apparatus. This section also requires that the employee conducting the test must sign the form and that the record be retained at the office of the supervisory official having proper authority. Results of tests made in compliance with § 236.587 must be retained for 92 days, and results of all other tests must be retained until the next record is filed, but in no case less than one year. Additionally, § 236.587 requires each railroad to make a departure test of cab signal, train stop, or train control devices on locomotives before that locomotive enters the equipped territory. This section further requires that whoever performs the test must certify in writing that the test was properly performed. The certification and the test results must be posted in the locomotive cab with a copy of the certification and test results retained at the office of a supervisory official having proper authority. However, if it is impractical to leave a copy of the certification and test results at the location of the test, the test results must be transmitted to either the dispatcher or one other designated official at each location, who must keep a written record of the test results and the name of the person performing the test. All records prepared under this section are required to be retained for at least 92 days. Finally, Section 236.590 requires the carrier to clean and inspect the pneumatic apparatus of automatic train stop, train control, or cab signal devices on locomotives every 736 days, and to stencil, tag, or otherwise mark the pneumatic apparatus indicating the last cleaning date.

Form Number(s): FRA F 6180.14, 6180.47.

Affected Public: Businesses.

Respondent Universe: 685 railroads.

Frequency of Submission: On occasion; every five years, recordkeeping.

Reporting Burden:

CFR section | Respondent universe | Total annual responses | Average time per response | Total annual burden hours | Total annual burden cost
233.5—Reporting of accidents | 685 railroads | 10 phone calls | 30 minutes | 5 hours | $155.
233.7—False proceed signal failures report | 685 railroads | 200 reports | 15 minutes | 50 hours | $1,550.
233.9-5 Year signal system report | N/A | Outside. scope of PRA | Outside scope of PRA | Outside scope of PRA | Outside scope of PRA.
235.5—Block signal applications | 80 railroads | 111 applications | 10 hours | 1,110 hours | $34,410.
235.8—Applications for relief | 80 railroads | 24 relief requests | 2.5 hours | 60 hours | $1,860.
235.20—Protest letters | 685 railroads | 84 protest letters | 30 minutes | 42 hours | $1,302.
236.110—Recordkeeping | 80 railroads | 936,660 report forms | .4568 hour | 427,881 hours | $13,264,311.
236.587-Departure tests | 18 railroads | 730,000 tests/record | 4 minutes | 48,667 hours | $1,508,677.
235.590—Pneumatic valves | 18 railroads | 6,697 stencilings or tags | 22.5 minutes | 2,511 hours | $77,841.

Total Responses: 1,673,786.

Estimated Total Annual Burden: 480,326 hours.

Status: Regular Review.

Title: New Locomotive Certification, Noise Compliance Regulations.

OMB Control Number: 2130-0527.

Abstract: On January 14, 1976, the Environmental Protection Agency (EPA) issued noise emission standards pursuant to the Noise Control Act of 1972. The standards, 40 CFR Part 201, establish limits on the noise emissions generated by railroad locomotives under both stationary and moving conditions. Section 17 of the Noise Control Act also requires the Secretary of Transportation to enforce these regulations and promulgate separate regulations to ensure compliance with the same. On December 23, 1983, FRA published 49 CFR Part 210 to ensure compliance with the EPA standards. The certification and testing data ensure that locomotives built after December 31, 1979 have passed prescribed decibel standards for noise emissions under EPA regulations.

Form Number(s): N/A.

Affected Public: Businesses.

Respondent Universe: 2 Manufacturers.

Frequency of Submission: On occasion; one-time.

Reporting Burden:

CFR section | Respondent universe | Total annual responses | Average time per response | Total annual burden hours | Total annual burden cost
Request for certification info | 2 manufacturers | 40 requests | 30 minutes | 20 hours | $480
Apply badge or tag to cab of locomotive | 2 manufacturers | 40 badges/tags | 30 minutes | 20 hours | 480
Noise emission measurement | 2 manufacturers | 40 measurements | 3 hours | 120 hours | 2,880

Total Responses: 120.

Estimated Total Annual Burden: 160 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, D.C. on February 10, 2000.
Margaret B. Reid,
Acting Director, Office of Information Technology and Support Systems, Federal Railroad Administration

[FR Doc. 00-3694 Filed 2-15-00; 8:45 am]

BILLING CODE 4910-06-U